DEPARTMENT OF HEALTH AND HUMAN SERVICES

Health Care Financing Administration

42 CFR Parts 410, 412, 413, and 485

[HCFA-1118-CN1]

RIN 0938-AK09

Medicare Program; Changes to the Hospital Inpatient Prospective Payment Systems and Fiscal Year 2001 Rates; Correction

AGENCY: Health Care Financing Administration (HCFA), HHS.

ACTION: Final rule; correction notice.

SUMMARY: In the August 1, 2000 issue of the Federal Register (65 FR 47054), we published a final rule that revised the Medicare hospital inpatient prospective payment systems for operating costs and capital-related costs to implement necessary changes arising from our continuing experience with the system. This document corrects errors made in that final rule.

EFFECTIVE DATE: October 1, 2000.

FOR FURTHER INFORMATION CONTACT: Anne Tayloe, (410) 786-4546.

SUPPLEMENTARY INFORMATION: This document corrects a limited number of values to address technical errors in preparing tables 3C and 4A through 4D for publication in the August 1, 2000 Federal Register. Table 3C reflects changes to the wage data and tables 4A through 4D reflect changes in the actual payments due to hospital reclassification with the exception of the change in table 4A for MSA 0240 (Allentown-Bethlehem-Easton, PA).

The August 1, 2000 final rule also contained other technical and typographical errors. Therefore, we are making the following corrections:

1. On page 47144, in Table 3C—Hospital Case Mix Indexes for Discharges Occurring in Federal Fiscal Year 1999; Hospital Average Hourly Wage for Federal Fiscal Year 2001 Wage Index, the average hourly wages for the specified providers is corrected to read as follows:

Provider | Case mix index | Average hourly wage
390263 | 1.3571 | 20.69

2. On pages 47149 and 47151, in Table 4A_Wage Index and Capital Geographic Adjustment Factor (GAF) for Urban Areas, the wage indexes and GAFs for the specified urban areas are corrected to read as follows:

| Urban area (constituent counties) | Wage index | GAF
0240 | Allentown-Bethlehem-Easton, PA; Carbon, PA; Lehigh, PA | 0.9925 | 0.9949
3040 | Great Falls, MT; Cascade, MT | 0.9330 | 0.9536

3. On page 47156, in Table 4B_Wage Index and Capital Geographic Adjustment Factor (GAF) for Rural Areas, the wage index and GAF for the specified nonurban area is corrected to read as follows:

Nonurban area | Wage index | GAF
Vermont | 0.9409 | 0.9591

4. On page 47156 through 47157, in Table 4C_Wage Index and Capital Geographic Adjustment Factor (GAF) for Hospitals that are Reclassified, the wage indexes and GAFs for the specified areas are added or corrected to read as follows:

Area | Wage index | GAF
Barnstable-Yarmouth, MA | 1.3583 | 1.2333
Burlington, VT | 1.0236 | 1.0161
Great Falls, MT | 0.9330 | 0.9536
Kalamazoo-Battlecreek, MI | 1.0291 | 1.0198
Newburgh, NY-PA | 1.0317 | 1.0216

5. On page 47157, in Table 4D_Average Hourly Wage for Urban Areas, the average hourly wage for the specified urban area is corrected to read as follows:

Urban area | Average hourly wage
Allentown-Bethlehem-Easton, PA | 21.6065

6. On pages 47160 and 47167, in Table 5—List of Diagnosis Related Groups (DRGs), Relative Weighting Factors, Geometric and Arithmetic Mean Length of Stay, the fourth column (DRG title) is amended as follows:

a. DRG 27, “Traumatic Stupor & Coma, Coma <1 hr” is corrected to read “Traumatic Stupor & Coma, Coma >1 hr.”

b. DRG 29, “Traumatic Stupor & Coma, Coma <1 hr Age ≤17 W/O CC” is corrected to read “Traumatic Stupor & Coma, Coma <1 hr Age> 17 W/O CC.”

c. DRG 425, “Acute Adjustment Reaction & Psychological Dysfunction” is corrected to read “Acute Adjustment Reaction & Psychosocial Dysfunction.”

7. On page 47171, in Table 6C—Invalid Diagnosis Codes the following entry is added before the first line of the table to read as follows:

Diagnosis code | Description | CC | MDC | DRG
282.5 | Anemia in chronic illness | N | 16 | 395, 396

(Catalog of Federal Domestic Assistance Program No. 93.773 Medicare—Hospital Insurance)

Dated: February 22, 2001.
William E. Clark,
Acting, Deputy Assistant Secretary for Information Resource Management.

[FR Doc. 01-5107 Filed 3-1-01; 8:45 am]

BILLING CODE 4120-01-P